NUCLEAR REGULATORY COMMISSION

[NRC-2010-0266]

Withdrawal of Regulatory Guides 3.44 and 3.49

AGENCY: Nuclear Regulatory Commission.

ACTION: Withdrawal of Regulatory Guide 3.44, “Standard Format and Content for the Safety Analysis Report for an Independent Spent Fuel Storage Installation (Water-Basin Type)” and Regulatory Guide 3.49, “Design of an Independent Spent Fuel Storage Installation (Water-Basin Type).”

FOR FURTHER INFORMATION CONTACT: Mark P. Orr, Regulatory Guide Development Branch, Division of Engineering, Office of Nuclear Regulatory Research, U.S. Nuclear Regulatory Commission, Washington, DC 20555-0001, telephone: 301-251-7495 or e-mail Mark.Orr@nrc.gov.

SUPPLEMENTARY INFORMATION:

I. Introduction

The U.S. Nuclear Regulatory Commission (NRC) is withdrawing Regulatory Guide (RG) 3.44, “Standard Format and Content for the Safety Analysis Report for an Independent Spent Fuel Storage Installation (Water-Basin Type),” dated January 1989 and RG 3.49, “Design of an Independent Spent Fuel Storage Installation (Water-Basin Type),” dated December 1981.

Regulatory Guide 3.44 provides guidance to applicants on the format and content of the safety analysis report that is required as part of an application to construct or operate a water-basin type in an independent spent fuel storage installation (ISFSI). Regulatory Guide 3.49 endorses portions of the American National Standards Institute (ANSI), American Nuclear Society (ANS) standard ANSI/ANS 57.7-1981, “Design Criteria for an Independent Spent Fuel Storage Installation (Water-Pool Type),” with exceptions and supplements, as an acceptable method of complying with the requirements of Subpart F, “General Design Criteria” of Title 10, of the Code of Federal Regulations, Part 72, “Licensing Requirements for the Independent Storage of Spent Nuclear Fuel, High-Level Radioactive Waste, and Reactor-Related Greater Than Class C Waste” (10 CFR Part 72) for the design of a water-basin type ISFSI.

These guides do not support any active license or application; they were developed to provide guidance on the facility design and application to construct and operate a water-basin type ISFSI. The NRC has no record of either of these regulatory guides ever being used in the 20 years since they were published and no indication that any applicant or licensee is planning to submit an application for the construction and/or operation of a water-basin type ISFSI.

These guides for wet basin storage are no longer necessary because the use of dry cask storage for ISFSIs has proven to be superior to wet basin storage and, in the event that there is an industry initiative to reprocess spent fuel, any wet basin storage operation associated with the reprocessing will likely be licensed as an integral part of the reprocessing facility, rather than as an ISFSI.

II. Further Information

The withdrawal of RG 3.44 and RG 3.49 does not alter any prior or existing licensing commitments based on their use. The guidance provided in these regulatory guides is no longer necessary. Regulatory guides may be withdrawn when their guidance no longer provides useful information, or is superseded by technological, congressional actions, or other events.

Guides are revised for a variety of reasons, and the withdrawal of a regulatory guide should be thought of as the final revision of the guide. Although a regulatory guide is withdrawn, current licensees may continue to use it, and withdrawal does not affect any existing licenses or agreements. Withdrawal means that the guide should not be used for future NRC licensing activities. Changes to existing licenses would be accomplished using other regulatory products.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, Maryland 20852-2738. The PDR's mailing address is US NRC PDR, Washington, DC 20555-0001. You can reach the staff by telephone at 301-415-4737 or 800-397-4209, by fax at 301-415-3548, and by e-mail to pdr.resource@nrc.gov.

Regulatory guides are not copyrighted, and NRC approval is not required to reproduce them.

Dated at Rockville, Maryland, this 22nd day of July 2010.
For the Nuclear Regulatory Commission.
Harriet Karagiannis,
Acting Chief, Regulatory Guide Development Branch, Division of Engineering, Office of Nuclear Regulatory Research.

[FR Doc. 2010-18890 Filed 7-30-10; 8:45 am]

BILLING CODE 7590-01-P